ENVIRONMENTAL PROTECTION AGENCY

[EPA-HQ-OPP-2015-0393; FRL-9929-24]

Registration Review Interim Decisions; Notice of Availability

AGENCY: Environmental Protection Agency (EPA).

ACTION: Notice.

SUMMARY: This notice announces the availability of EPA's interim registration review decisions for the pesticides listed in the table in Unit II of this notice. Registration review is EPA's periodic review of pesticide registrations to ensure that each pesticide continues to satisfy the statutory standard for registration, that is, that the pesticide can perform its intended function without causing unreasonable adverse effects on human health or the environment. Through this program, EPA is ensuring that each pesticide's registration is based on current scientific and other knowledge, including its effects on human health and the environment. This document also announces the Agency's closure of the registration review docket diclofop-methyl. All pesticide products containing diclofop-methyl have been cancelled.

FOR FURTHER INFORMATION CONTACT: For pesticide specific information, contact the Chemical Review Manager identified in the table in Unit II. for the pesticide of interest.

For general information on the registration review program, contact: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager identified in the table in Unit II. for the pesticide of interest.

B. How can I get copies of this document and other related information?

The docket for this action, identified by docket identification (ID) number EPA-HQ-OPP-2015-0393, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

Pursuant to 40 CFR 155.58(c), this notice announces the availability of EPA's interim registration review decisions for the pesticides in the following table:

Table—Registration Review Interim Decisions
Registration review case name and No. | Docket ID No. | Chemical review manager and contact information
Acetic acid and sodium diacetate, 4001 | EPA-HQ-OPP-2008-0016 | Cathryn Britton, britton.cathryn@epa.gov, (703) 308-0136.
Fosetyl-Al, 0646 | EPA-HQ-OPP-2006-0379 | Ricardo Jones, jones.ricardo@epa.gov, (703) 347-0493.
Picaridin, 7433 | EPA-HQ-OPP-2014-0341 | Ricardo Jones, jones.ricardo@epa.gov, (703) 347-0493.
Sodium fluoride, 3132 | EPA-HQ-OPP-2014-0655 | SanYvette Williams, williams.Sanyvette@epa.gov, (703) 305-7702.
Yellow mustard seed/sulfonic acid salts, 7619/7618 | EPA-HQ-OPP-2014-0762 | Roy Johnson, johnson.roy@epa.gov, (703) 347-0492.

The registration review final decisions for these cases are dependent on the assessments of listed species under the Endangered Species Act (ESA), determinations on the potential for endocrine disruption, and/or pollinator risk assessments.

Acetic acid and sodium diacetate (Interim Decision). The registration review docket for acetic acid and sodium diacetate opened in March 2008. Acetic acid and sodium diacetate are two different active ingredients; sodium diacetate is a salt of acetic acid. Acetic acid is used as a preservative for post-harvest stored grains and hay intended for livestock feed. It is also applied as a non-selective herbicide for control of broadleaf weeds and grasses. Sodium diacetate is a fungicide and bactericide registered to control molds and bacteria. It is applied to hay to prevent spoilage and to silage as an aid in fermentation. The Agency has determined that previous human health assessments for acetic acid and sodium diacetate are sufficient for registration review and no human health risks of concern have been identified. The Agency completed a comprehensive ecological risk assessment for the nonselective herbicide use of acetic acid, including an endangered species assessment, and a qualitative ecological risk assessment for sodium diacetate. The Agency has made a No Effect determination for acetic acid used as a nonselective herbicide and all currently registered uses of sodium diacetate for all non-target organisms. EPA published the Acetic Acid and Sodium Diacetate Proposed Interim Decision in December 2014. One comment was received from the Center for Biological Diversity concurring with EPA's No Effect determination. No risk mitigation measures for human health or ecological effects are included in the interim decision.

Fosetyl-Al (Interim Decision). Fosetyl-Al is a phosphonate fungicide registered for use to control various oomycyete pathogens that cause fungal diseases on numerous crops. Fosetyl-Al is registered for use on agricultural crops including avocado, caneberries, citrus, grape, stone fruit, strawberry, certain tree nuts, tobacco, and certain vegetables. It is also registered for commercial use on ornamentals, turf, and conifer nurseries. EPA conducted quantitative risk assessments for both human health and ecological risk. The Agency also completed a partial screening level endangered species assessment, making a No Effects determination for listed species of fish, aquatic invertebrates, aquatic plans, and monocot plants. No human health risks of concern were identified. The ecological risk assessment indicated potential risks to birds, mammals, terrestrial and aquatic plants, and terrestrial invertebrates. In the Federal Register of December 24, 2014 (79 FR 77480) (FRL-9919-24), the Agency issued its Proposed Interim Registration Review Decision for fosetyl-Al for public comment. Fourteen comments were received, including comments on the Agency's proposal to increase the Restricted Entry Interval, require additional pollinator data and add pollinator advisory language to labels. The Agency's Interim Decision modifies the application directions for fosetyl-Al to mitigate ecological risks and updates labels to reflect current Agency policy for worker protection. It does not require additional pollinator data or pollinator advisory language on the product labels.

Picaridin (Interim Decision). Picaridin is a broad-spectrum insect repellent registered for use against biting flies, chiggers, fleas, mosquitoes, and ticks. Picaridin is labeled for use on human skin and footwear. The Agency completed qualitative ecological and human health risk assessments for picaridin, and found no risks of concern. The Agency has made a No Effects determination under the Endangered Species Assessment (ESA) for all listed species and No Modification of designated critical habitat for such species. In the Federal Register of December 24, 2014 (79 FR 77480) (FRL-9919-24), EPA issued the Combined Work Plan and Proposed Interim Registration Review Decision, indicating that no additional data would be needed for the picaridin registration review. Two comments were received, neither of which modified the proposed decision or work plan for picaridin. No risk mitigation measures for human health or ecological effects are included in the interim decision.

Sodium fluoride (Interim Decision). Sodium fluoride is registered for use as a wood preservative to protect the groundline portion of existing wooden utility poles. It is formulated as an impregnated pole wrap material. This use is not expected to result in direct or indirect food or drinking water exposure. Occupational and residential exposure is minimal by the dermal and inhalation routes, and the Agency has determined that a human health risk assessment was not needed. Based on the lack of potential exposure and toxic effects to fish, aquatic invertebrates, and birds, the Agency has made a No Effect determination for federally listed species and designated critical habitat.

Yellow mustard seed/sulfonic acid salts (Interim Decision). Yellow mustard seed and sulfonic acid salts are co-formulated as a rodenticide registered for the control of ground squirrels in rangelands, ornamental plantings, seed orchards and nurseries, golf courses, parks, and rights-of-way. The product is delivered into burrows occupied by these rodents through a modified hand-held spray wand with an aspirating muzzle to facilitate foaming action. The Agency relied on qualitative assessments conducted for yellow mustard seed/sulfonic acid salts at the time of the initial registration, and the Agency did not believe that updated or quantitative assessments were needed for registration review. No human health risks of concern or risks of concern to non-listed species have been identified. No risk mitigation measures for human health or ecological effects are included in the interim decision.

Case Closure for Diclofop-methyl (PC Code: 110902, Case: 2160). Diclofop-methyl is an herbicide which was labeled for use on wheat, barley, and golf course turf. On October 23, 2014, the Agency received a request for voluntary cancellation of diclofop-methyl from the technical and end-use registrants; Bayer CropScience and Bayer Environmental Science, respectively. EPA subsequently issued a Federal Register notice announcing receipt of the request (FRL-9396-04), and allowed a 30-day period for public comment on the request. No substantive comments were received, and on June 10, 2015, EPA issued the cancellation order for all remaining registrations of products containing diclofop-methyl (FRL-9968-03), which sets out the existing stocks policy for such products. With the cancellation of all remaining diclofop-methyl products, the Agency is announcing the closure of the registration review case for the active ingredient.

Pursuant to 40 CFR 155.57, a registration review decision is the Agency's determination whether a pesticide meets, or does not meet, the standard for registration in FIFRA. EPA has considered the pesticides listed in the table in this unit in light of the FIFRA standard for registration. The Interim Decision documents for these pesticides in the docket describe the Agency's rationale for issuing a registration review interim decision for this pesticide.

In addition to an interim registration review decision document, the registration review docket for each of these pesticides may also include other relevant documents related to the registration review of the case. A proposed interim registration review decision was previously posted to each docket and the public was invited to submit any comments or new information relevant to the proposal.

EPA has addressed the substantive comments and information received during the 60-day comment period in the discussion for each pesticide listed in this document. During the 60-day comment period, no public comments were received for any of these cases that resulted in changes in the Agency's interim decisions.

Pursuant to 40 CFR 155.58(c), the registration review case docket for each pesticide discussed in this notice will remain open until all actions required in the interim decision have been completed.

Background on the registration review program is provided at: http://www2.epa.gov/pesticide-reevaluation. Links to earlier documents related to the registration review of the pesticide cases identified in this notice are provided in the Pesticide Chemical Search data base accessible at: http://iaspub.epa.gov/apex/pesticides/f?p=chemicalsearch.

Authority: 7 U.S.C. 136 et seq.

Dated: June 26, 2015.
Richard P. Keigwin, Jr.,
Director, Pesticide Re-Evaluation Division, Office of Pesticide Programs.

[FR Doc. 2015-16406 Filed 7-7-15; 8:45 am]

BILLING CODE 6560-50-P